NUCLEAR REGULATORY COMMISSION

[NRC-2013-0033]

Acceptability of Corrective Action Programs for Fuel Cycle Facilities

AGENCY: Nuclear Regulatory Commission.

ACTION: Draft NUREG; request for public comment.

SUMMARY: The U.S. Nuclear Regulatory Commission (NRC) is issuing for public comment draft NUREG-2154 “Acceptability of Corrective Action Programs for Fuel Cycle Facilities.” The draft NUREG provides guidance to the NRC staff on how to determine whether a Corrective Action Plan (CAP) submitted by the licensee of a fuel cycle facility is acceptable.

DATES: Comments may be submitted by April 22, 2013. Comments received after this date will be considered, if it is practical to do so, but the NRC staff is able to ensure consideration only for comments received before this date.

ADDRESSES: You may access information and comment submissions related to this document, which the NRC possesses and are publically available, by searching on http://www.regulations.gov under Docket ID NRC-2013-0033. You may submit comments by any of the following methods:

• Federal Rulemaking Web site: Go to http://www.regulations.gov and search for Docket ID NRC-2013-0033. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

FOR FURTHER INFORMATION CONTACT: Ms. Sabrina Atack, Office of Nuclear Material Safety and Safeguards, U.S. Nuclear Regulatory Commission, Washington, DC 20555-0001; telephone: 301-492-3204; email Sabrina.Atack@nrc.gov.

SUPPLEMENTARY INFORMATION:

I. Accessing Information and Submitting Comments

A. Accessing Information

Please refer to Docket ID NRC-2013-0033 when contacting the NRC about the availability of information regarding this document. You may access information related to this document by any of the following methods:

• Federal Rulemaking Web site: Go to http://www.regulations.gov and search for Docket ID NRC-2013-0033.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. The draft NUREG is available under ADAMS Accession No. ML13036A029.

• NRC's PDR: You may examine and purchase copies of public documents at the NRC's PDR, Room O1-F21, One White Flint North, 11555 Rockville Pike, Rockville, Maryland 20852.

B. Submitting Comments

Please include Docket ID NRC-2013-0033 in the subject line of your comment submission, in order to ensure that the NRC is able to make your comment submission available to the public in this docket.

The NRC cautions you not to include identifying or contact information that that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

The NRC staff has revised Section 2.3.2 of the NRC Enforcement Policy (ADAMS Accession No. ML12340A295) to disposition Severity Level IV violations for Fuel Cycle Facilities as non-cited violations if the NRC determines that the licensee's CAP is effective, the licensee enters the violation in its CAP, and other criteria in Section 2.3.2 of the Enforcement Policy are met. The purpose of draft NUREG-2154 “Acceptability of Corrective Action Programs for Fuel Cycle Facilities,” is to provide guidance to the NRC staff on how to determine, from a licensee's CAP licensing submittal, that a CAP is acceptable. After the NRC staff determines that the CAP is acceptable, the CAP licensing submittal will be incorporated into the license and implementation of the CAP will be verified by an NRC inspection using a CAP inspection procedure. After the NRC inspection verifies that the licensee has implemented its CAP in accordance with the license and the licensee's CAP implementing procedures, then the NRC will consider the CAP to be effective for the purposes of Section 2.3.2 of the Enforcement Policy.

Proposed Action

By this action, the NRC is requesting public comments on the draft NUREG. The draft NUREG provides guidance to the NRC staff on how to determine whether a CAP submitted by the licensee of a fuel cycle facility is acceptable. The NRC staff will consider any public comments prior to developing the final NUREG.

Dated at Rockville, Maryland, this 11th day of February 2013.
For the Nuclear Regulatory Commission.
Marissa G. Bailey,
Deputy Director, Division of Fuel Cycle Safety and Safeguards, Office of Nuclear Material Safety and Safeguards.

[FR Doc. 2013-03862 Filed 2-19-13; 8:45 am]

BILLING CODE 7590-01-P